DEPARTMENT OF TRANSPORTATION

Federal Aviation Administration

RTCA Special Committee 193/EUROCAE Working Group 44: Terrain and Airport Databases

AGENCY: Federal Aviation Administration (FAA), DOT.

ACTION: Notice of RTCA Special Committee 193/EUROCAE Working Group 44 meeting.

SUMMARY: The FAS is issuing this notice to advise the public of a meeting of RTCA Special Committee 193/EUROCAE Working Group 44: Terrain and Airport Databases.

DATES: The meeting will be held June 7-10, 2004 from 9 a.m.-5 p.m.

ADDRESSES: The meeting will be held at ICAO, 999 University Street, Montreal, PQ, Canada, H3C 5H7.

FOR FURTHER INFORMATION CONTACT: (1) RTCA Secretariat, 1828 L Street, NW., Suite 805, Washington, DC 20036; telephone (202) 833-9339; fax (202) 833-9434; Web site http://www.rtca.org. (2) Mr. Aleksandar Pavlovic; telephone (514) 954-8162.

SUPPLEMENTARY INFORMATION: Pursuant to section 10(a)(2) of the Federal Advisory Committee Act (Pub.L. 92-463, 5 U.S.C., Appendix 2), notice is hereby given for a Special Committee 193/EUROCAE Working Group 44 meeting. The agenda will include:

• June 7:

• Opening Plenary Session (Welcome and Introductory Remarks, Review/Approval of Meeting Agenda, Review Summary of Previous Meeting)

• Discussion

• Presentations

• Jens Schiefele—Updates on changes to DO-272/ED-98, DO-276/ED-99, ED-119/DO-XXX

• Report on RTCA PMC meeting discussion on Document

• Report on EUROCAE Council discussion on Document

• Subgroup 5 (Update to SC-193/WG-44 Documents)

• Discussion of Committee Plans

• Establish priorities of working revision items

• Begin recording changes to documents

• Determine if need for subgroups

• Begin recording changes to documents

• June 8:

• Continue Subgroup 5:

• Update to SC-193/WG-44

• June 9:

• Continue in Subgroup 5:

• Update to SC-193/WG-44

• June 10:

• Closing Plenary Session (Summary of Subgroup 5, Assign Tasks, Other Business, Date and Place of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on May 10, 2004.
Robert Zoldos,
FAA System Engineer, RTCA Advisory Committee.

[FR Doc. 04-12328 Filed 5-28-04; 8:45 am]

BILLING CODE 4910-13-M